DEPARTMENT OF TRANSPORTATION

Federal Motor Carrier Safety Administration

[Docket ID FMCSA-2009-0206]

Qualification of Drivers; Exemption Applications; Vision

AGENCY: Federal Motor Carrier Safety Administration (FMCSA), DOT.

ACTION: Notice of applications for exemptions; request for comments.

SUMMARY: FMCSA announces receipt of applications from 27 individuals for exemption from the vision requirement in the Federal Motor Carrier Safety Regulations. If granted, the exemptions would enable these individuals to qualify as drivers of commercial motor vehicles (CMVs) in interstate commerce without meeting the Federal vision standard.

DATES: Comments must be received on or before September 25, 2009.

ADDRESSES: You may submit comments bearing the Federal Docket Management System (FDMS) Docket ID FMCSA-2009-0206 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://www.regulations.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 27 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Martin Anaya

Mr. Anaya, age 39, has had amblyopia in his left eye since childhood. The best corrected visual acuity in his right eye is 20/20 and in his left eye, 20/50. Following an examination in 2009, his optometrist noted, “In my professional opinion, from a vision stand point, Mr. Anaya can safely drive a commercial vehicle.” Mr. Anaya reported that he has driven straight trucks for 11 years, accumulating 220,000 miles, and tractor-trailer combinations for 11 years, accumulating 110,000 miles. He holds a Class A Commercial Driver's License (CDL) from New Mexico. His driving record for the last 3 years shows no crashes and no convictions for moving violations in a CMV.

Gregory G. Barthell

Mr. Barthell, 48, has had amblyopia in his right eye since childhood. The visual acuity in his right eye is 20/50 and in his left eye, 20/20. Following an examination in 2009, his ophthalmologist noted, “In my medical opinion, the patient has sufficient vision to perform tasks required to operate a commercial vehicle. His vision deficiency is unlikely to change over time.” Mr. Barthell reported that he has driven straight trucks for 3 years, accumulating 7,800 miles, and buses for 2 years, accumulating 52,000 miles. He holds a Class B CDL from New Mexico. His driving record for the last 3 years shows no crashes and no convictions for moving violations in a CMV.

Donald R. Beauchesne

Mr. Beauchesne, 56, has had amblyopia in his left eye since childhood. The best corrected visual acuity in his right eye is 20/25 and in his left eye, 20/100. Following an examination in 2009, his optometrist noted, “I believe that Mr. Beauchesne has sufficient vision to perform the driving tasks required to operate a commercial vehicle.” Mr. Beauchesne reported that he has driven straight trucks for 11 years, accumulating 275,000 miles, and buses for 20 years, accumulating 1 million miles. He holds a Class B CDL from Maine. His driving record for the last 3 years shows no crashes and no convictions for moving violations in a CMV.

John E. Bell

Mr. Bell, 47, has had amblyopia in his left eye since childhood. The visual acuity in his right eye is 20/20 and in his left eye, hand motion vision. Following an examination in 2009, his optometrist noted, “John has sufficient vision to perform the driving tasks required to operate a commercial vehicle on public roads in every state in the United States.” Mr. Bell reported that he has driven straight trucks for 5 years, accumulating 500,000 miles, and tractor-trailer combinations for 10 years, accumulating 1 million miles. He holds a Class A CDL from Arizona. His driving record for the last 3 years shows no crashes and no convictions for moving violations in a CMV.

Richard J. Decker

Mr. Decker, 54, has had amblyopia in his right eye since childhood. The best corrected visual acuity in his right eye is 20/400 and in his left eye, 20/20. Following an examination in 2009, his optometrist noted, “Given Mr. Decker's current visual status, he has the proper visual skills to operate a commercial vehicle.” Mr. Decker reported that he has driven straight trucks for 25 years, accumulating 250,000 miles, and tractor-trailer combinations for 25 years, accumulating 2.5 million miles. He holds a Class A CDL from Connecticut. His driving record for the last 3 years shows no crashes and no convictions for moving violations in a CMV.

James E. Fix

Mr. Fix, 46, had an enucleation of his left eye due to a traumatic injury sustained in 2000. The best corrected visual acuity in his right eye is 20/20. Following an examination in 2009, his optometrist noted, “I believe Mr. Fix has sufficient vision to perform the driving tasks to operate a commercial vehicle.” Mr. Fix reported that he has driven straight trucks for 4 years, accumulating 120,000 miles, and tractor-trailer combinations for 8 years, accumulating 640,000 miles. He holds a Class D operator's license from South Carolina. His driving record for the last 3 years shows no crashes and no convictions for moving violations in a CMV.

Dean A. Gary

Mr. Gary, 44, has loss of vision in his left eye due to a retinal detachment that occurred 15 years ago. The best corrected visual acuity in his right eye is 20/15 and in his left eye, hand motion vision. Following an examination in 2009, his optometrist noted, “In my opinion, this patient's vision is adequate for commercial driving.” Mr. Gary reported that he has driven straight trucks for 25 years, accumulating 1.7 million miles, and tractor-trailer combinations for 25 years, accumulating 125,000 miles. He holds a Class A CDL from Minnesota. His driving record for the last 3 years shows no crashes and no convictions for moving violations in a CMV.

James P. Greene

Mr. Greene, 44, has loss of vision in his left eye due to congenital toxoplasmosis. The best corrected visual acuity in his right eye is 20/20 and in his left eye, 20/400. Following an examination in 2009, his optometrist noted, “In my opinion, his vision is adequate to drive a commercial vehicle.” Mr. Greene reported that he has driven straight trucks for 5 years, accumulating 59,520 miles. He holds a Class B CDL from New York. His driving record for the last 3 years shows no crashes and no convictions for moving violations in a CMV.

Larry L. Harris

Mr. Harris, 56, has loss of vision in his left eye due to a congenital retinal lesion. The best corrected visual acuity in his right eye is 20/20 and in his left eye, count-finger vision. Following an examination in 2009, his optometrist noted, “In my medical opinion, Mr. Harris has sufficient vision to perform the driving tasks required to operate a commercial vehicle.” Mr. Harris reported that he has driven straight trucks for 7 years, accumulating 7,000 miles. He holds a Class B CDL from Ohio. His driving record for the last 3 years shows no crashes and no convictions for moving violations in a CMV.

Roger D. Kloss

Mr. Kloss, 46, has complete loss of vision in his left eye due to a congenital defect. The visual acuity in his right eye is 20/20. Following an examination in 2009, his optometrist noted, “I feel that Mr. Kloss is well adapted to his situation and has sufficient vision to perform the tasks necessary to operate a commercial vehicle.” Mr. Kloss reported that he has driven tractor-trailer combinations for 23 years, accumulating 1.8 million miles. He holds a Class A CDL from Illinois. His driving record for the last 3 years shows no crashes and no convictions for moving violations in a CMV.

Steven R. Lechtenberg

Mr. Lechtenberg, 42, has bullous keratopathy in his right eye due to a traumatic injury sustained as a child. The best corrected visual acuity in his right eye is count-finger vision and in his left eye, 20/20. Following an examination in 2009, his optometrist noted, “It is my medical opinion that Mr. Lechtenberg has sufficient vision to perform the driving tasks required to operate a commercial motor vehicle.” Mr. Lechtenberg reported that he has driven straight trucks for 5 years, accumulating 200,000 miles. He holds a Class O operator's license from Nebraska, which allows him to drive any non-commercial vehicle except motorcycles. His driving record for the last 3 years shows no crashes and no convictions for moving violations in a CMV.

Oscar N. Lefferts

Mr. Lefferts, 50, has had amblyopia in his left eye since childhood. The best corrected visual acuity in his right eye is 20/20 and in his left eye, 20/200. Following an examination in 2009, his optometrist noted, “I feel that Mr. Lefferts vision is more than sufficient and he should have no restrictions on his commercial driver's license and the ability to operate a commercial vehicle is not compromised.” Mr. Lefferts reported that he has driven buses for 9 years, accumulating 1.1 million miles. He holds a Class D operator's license from Alabama. His driving record for the last 3 years shows no crashes and no convictions for moving violations in a CMV.

David C. Lyles

Mr. Lyles, 54, has had age-related macular degeneration since 2004. The best corrected visual acuity in his right eye is 20/80 and in his left eye, 20/20. Following an examination in 2009, his optometrist noted, “It is my opinion that Mr. Lyles has sufficient visual ability to perform the tasks necessary to operate a commercial vehicle.” Mr. Lyles reported that he has driven tractor-trailer combinations for 3½ years, accumulating 350,000 miles. He holds a Class A CDL from Georgia. His driving record for the last 3 years shows no crashes and one conviction for speeding in a CMV. He exceeded the speed limit by 12 mph.

Jesse R. McClary, Sr.

Mr. McClary, 48, has a prosthetic left eye due to a traumatic injury sustained as a child. The best corrected visual acuity in his right eye is 20/20. Following an examination in 2009, his optometrist noted, “I see no reason why Mr. McClary cannot safely operate a commercial vehicle and it is my understanding that he has been doing it for many years.” Mr. McClary reported that he has driven straight trucks for 30 years, accumulating 6 million miles, tractor-trailer combinations for 4 years, accumulating 220,000 miles, and buses for 25 years, accumulating 500,000 miles. He holds a Class A CDL from Missouri. His driving record for the last 3 years shows no crashes and no convictions for moving violations in a CMV.

Ignar L. Meyer

Mr. Meyer, 54, has had amblyopia in his right eye since childhood. The best corrected visual acuity in his right eye is 20/70 and in his left eye, 20/20. Following an examination in 2009, his optometrist noted, “He has no visual condition that would impair his driving skill, there should be no restrictions other than glasses required on his driver's license, commercial or otherwise.” Mr. Meyer reported that he has driven straight trucks for 3½ years, accumulating 56,000 miles. He holds a Class A CDL from Washington. His driving record for the last 3 years shows no crashes and no convictions for moving violations in a CMV.

James C. Miller

Mr. Miller, 66, has retinal vein occlusion in his left eye since 2006. The best corrected visual acuity in his right eye is 20/20 and in his left eye, 20/200. Following an examination in 2009, his optometrist noted, “In my medical opinion, Mr. Miller has sufficient vision to perform the tasks required to operate a commercial vehicle.” Mr. Miller reported that he has driven tractor-trailer combinations for 29 years, accumulating 324,000 miles. He holds a Class A CDL from North Carolina. His driving record for the last 3 years shows no crashes and no convictions for moving violations in a CMV.

Norman V. Myers

Mr. Myers, 53, has complete loss of vision in his right eye due to a cataract and retinal detachment as a child. The best corrected visual acuity in his left eye is 20/15. Following an examination in 2009, his ophthalmologist noted, “In my professional opinion, Norman Myers has sufficient vision to perform the driving tasks required to operate a commercial vehicle.” Mr. Myers reported that he has driven straight trucks for 3½ years, accumulating 157,500 miles. He holds an operator's license from Washington. His driving record for the last 3 years shows one crash for which he was not cited, and no convictions for moving violations in a CMV.

Steven D. O'Donnell

Mr. O'Donnell, 35, has a prosthetic right eye due to a traumatic injury sustained as a child. The visual acuity in his left eye is 20/20. Following an examination in 2009, his optometrist noted, “These tests during our examination show that Mr. O'Donnell has sufficient vision to perform the driving tasks required to operate a commercial vehicle.” Mr. O'Donnell reported that he has driven straight trucks for 10 years, accumulating 500,000 miles, and tractor-trailer combinations for 8 years, accumulating 640,000 miles. He holds a Class D operator's license from New Jersey. His driving record for the last 3 years shows no crashes and no convictions for moving violations in a CMV.

Ben R. Sauder

Mr. Sauder, 48, has loss of vision in his left eye due to a macular scar. The best corrected visual acuity in his right eye is 20/20 and in his left eye, 20/200. Following an examination in 2009, his optometrist noted, “In my opinion, Mr. Sauder's vision is sufficient to perform the driving tasks required to operate a commercial vehicle”. Mr. Sauder reported that he has driven straight trucks for 32 years, accumulating 1.4 million miles, tractor trailers for 4 years, accumulating 16,800 miles, and buses for 16 years, accumulating 32,000 miles. He holds a Class A CDL from Pennsylvania. His driving record for the last 3 years shows no crashes and no convictions for moving violations in a CMV.

Mark L. Simmons

Mr. Simmons, 45, has had amblyopia in his left eye since childhood. The visual acuity in his right eye is 20/20 and in his left eye, 20/70. Following an examination in 2009, his optometrist noted, “I believe that Mr. Simmons has sufficient vision to perform the driving tasks required to operate a commercial vehicle.” Mr. Simmons reported that he has driven straight trucks for 22 years, accumulating 66,000 miles, and tractor-trailer combinations for 11 years, accumulating 38,500 miles. He holds a Class A CDL from Iowa. His driving record for the last 3 years shows no crashes and no convictions for moving violations in a CMV.

Don W. Smith

Mr. Smith, 59, has had a traumatic cataract in his right eye caused by an injury sustained in 1954. The best corrected visual acuity in his right eye is light perception and in his left eye, 20/20. Following an examination in 2009, his optometrist noted, “In my medical opinion, Mr. Don Smith has sufficient vision to perform the driving tasks required to operate a commercial vehicle.” Mr. Smith reported that he has driven straight trucks for 18 years, accumulating 324,000 miles. He holds a Class B CDL from Illinois. His driving record for the last 3 years shows no crashes and no convictions for moving violations in a CMV.

Robert E. Smith

Mr. Smith, 46, has had amblyopia in his right eye since birth. The best corrected visual acuity in his right eye is 20/50 and in his left eye, 20/20. Following an examination in 2009, his optometrist noted, “Mr. Smith has sufficient vision to perform the driving tasks to operate a commercial vehicle.” Mr. Smith reported that he has driven straight trucks for 23 years, accumulating 345,000 miles. He holds a Class B CDL from Connecticut. His driving record for the last 3 years shows no crashes and no convictions for moving violations in a CMV.

Robert E. Soto

Mr. Soto, 45, has had myopic degeneration in his left eye since childhood. The best corrected visual acuity in his right eye is 20/20 and in his left eye, count-finger vision. Following an examination in 2009, his ophthalmologist noted, “Vision sufficient for commercial driving.” Mr. Soto reported that he has driven tractor-trailer combinations for 9 years, accumulating 1.1 million miles. He holds a Class A CDL from Texas. His driving record for the last 3 years shows no crashes and no convictions for moving violations in a CMV.

Jerry W. Stanfill

Mr. Stanfill, 67, has complete loss of vision in his left eye due to optic nerve damage sustained in 1990. The best corrected visual acuity in his right eye is 20/20. Following an examination in 2009, his optometrist noted, “In my opinion, Jerry has sufficient vision to perform the driving tasks required to operate a commercial vehicle.” Mr. Stanfill reported that he has driven straight trucks for 25 years, accumulating 2.2 million miles, and tractor-trailer combinations for 17 years, accumulating 1.6 million miles. He holds a Class A CDL from Arkansas. His driving record for the last 3 years shows no crashes and no convictions for moving violations in a CMV.

Charles M. Thomas

Mr. Thomas, 61, has had diabetic retinopathy in both eyes since 1996. The best corrected visual acuity in his right eye is 20/25 and in his left eye, 20/80. Following an examination in 2009, his ophthalmologist noted, “As an Ophthalmologist, I certify that Mr. Thomas has sufficient vision and field of vision, to more than adequately perform the driving tasks that are required to operate a commercial vehicle.” Mr. Thomas reported that he has driven tractor-trailer combinations for 32 years, accumulating 3.2 million miles. He holds a Class A CDL from Maryland. His driving record for the last 3 years shows no crashes and one conviction for a moving violation in a CMV, failure to obey a traffic sign.

Roger L. Unser

Mr. Unser, 60, has a prosthetic left eye due to a traumatic injury sustained in 1957. The best corrected visual acuity in his right eye is 20/20. Following an examination in 2009, his ophthalmologist noted, “In my medical opinion, Mr. Unser's vision is acceptable to drive a commercial vehicle.” Mr. Unser reported that he has driven straight trucks for 8 years, accumulating 320,000 miles, tractor-trailer combinations for 8 years, accumulating 440,000 miles, and buses for 6 years, accumulating 105,000. He holds a Class B CDL from Oregon. His driving record for the last 3 years shows no crashes and no convictions for moving violations in a CMV.

Virgil E. Walker

Mr. Walker, 61, has had amblyopia in his right eye since childhood. The best corrected visual acuity in his right eye is 20/100 and in his left eye, 20/20. Following an examination in 2009, his optometrist noted, “The patient has sufficient vision to perform the driving tasks required to operate a commercial vehicle.” Mr. Walker reported that he has driven straight trucks for 36 years, accumulating 342,000 miles. He holds a Class B CDL from Texas. His driving record for the last 3 years shows no crashes and no convictions for moving violations in a CMV.

Request for Comments

In accordance with 49 U.S.C. 31136(e) and 31315, FMCSA requests public comment from all interested persons on the exemption petitions described in this notice. The Agency will consider all comments received before the close of business September 25, 2009. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: August 20, 2009.
Larry W. Minor,
Associate Administrator for Policy and Program Development.

[FR Doc. E9-20622 Filed 8-25-09; 8:45 am]

BILLING CODE 4910-EX-P